DEPARTMENT OF COMMERCE

Bureau of Industry and Security

15 CFR Parts 732, 738, 740 and 746

[Docket No. 031219324-3324-01]

RIN 0694-AC86

Lifting of U.N. Sanctions Against UNITA

AGENCY: Bureau of Industry and Security, Department of Commerce.

ACTION: Final rule.

SUMMARY: This rule amends the Export Administration Regulations (EAR) by removing from the EAR references to sanctions on Angola administered by the Department of the Treasury's Office of Foreign Assets Control (OFAC). In response to United Nations Security Council (UNSC) resolutions regarding the conflict in Angola, the President, by Executive Order, directed the Department of the Treasury to maintain sanctions on the National Union for the Total Independence of Angola (UNITA). On December 9, 2002, the UNSC terminated the sanctions previously imposed on UNITA. On May 6, 2003, consistent with the UNSC action, the President terminated the relevant Executive Orders, effectively ending U.S. sanctions. This rule amends the EAR to remove certain references to the sanctions which had been maintained by OFAC with respect to UNITA.

DATES: This rule is effective January 22, 2004.

FOR FURTHER INFORMATION CONTACT: Joan Roberts, Director, Foreign Policy Controls Division, Office of Strategic Trade and Foreign Policy Controls, Bureau of Industry and Security, Department of Commerce, Telephone: (202) 482-4252, e-mail jroberts@bis.doc.gov.

SUPPLEMENTARY INFORMATION:

Background

Consistent with UNSC Resolution 864 (September 15, 1993) and subsequent related resolutions, and under the authority of the International Emergency Economic Powers Act (IEEPA), the National Emergencies Act, and section 5 of the United Nations Participation Act of 1945 (UNPA), the President issued Executive Orders 12865 (September 26, 1993), 13069 (December 12, 1997), and 13098 (August 18, 1998), imposing sanctions on UNITA (as defined therein) and Angola. Specifically, the Department of the Treasury was directed to maintain certain sanctions on UNITA, a task that it delegated to OFAC. OFAC implemented this mandate by issuing and amending the UNITA (Angola) Sanctions Regulations, set forth at Title 31, Part 590 of the Code of Federal Regulations. These provisions block all property within the possession or control of a U.S. person in which UNITA or its senior officials have an interest. They also prohibit the unauthorized exportation by U.S. persons of mining equipment, arms and related material of all types, petroleum and petroleum products, aircraft or aircraft components, and motorized vehicles or watercraft and spare parts for such items, to the territory of Angola, other than through approved points of entry designated by the Department of the Treasury.

On December 9, 2002, based on certain steps taken to resolve the conflict in Angola, the UNSC issued Resolution 1448, terminating the sanctions measures imposed on UNITA based on UNSC Resolutions 864, 1127 (August 28, 1997), 1130 (September 29, 1997), 1173 (June 12, 1998), and 1176 (June 24, 1998). On May 6, 2003, consistent with this UNSC action, the President issued Executive Order 13298, which revoked Executive Orders 12865, 13069 and 13098, and terminated U.S. sanctions imposed on UNITA and Angola.

Consistent with these actions, the Bureau of Industry and Security (BIS) is making certain changes to the EAR. Specifically, BIS is removing references to the measures imposed by OFAC on UNITA from parts 732, 738, 740 and 746 of the EAR.

Rulemaking Requirements

1. This final rule has been determined to be not significant for purposes of E.O. 12866.

2. Notwithstanding any other provision of law, no person is required to respond to, nor shall any person be subject to a penalty for failure to comply with a collection of information, subject to the requirements of the Paperwork Reduction Act of 1995 (44 U.S.C. 3501 et seq.) (PRA), unless that collection of information displays a currently valid Office of Management and Budget (OMB) Control Number. This rule involves collections of information subject to the PRA. These collections have been approved by OMB under control number 0694-0088, “Multi-Purpose Application,” which carries a burden hour estimate of 40 minutes to prepare and submit electronically and 45 minutes to submit manually form BIS-748P. Send comments regarding these burden estimates or any other aspect of these collections of information, including suggestions for reducing the burden, to OMB Desk Officer, New Executive Office Building, Washington, DC 20503; and to the Regulatory Policy Division, Bureau of Industry and Security, Department of Commerce, P.O. Box 273, Washington, DC 20044.

3. This rule does not contain policies with Federalism implications as that term is defined under Executive Order 13132.

4. The provisions of the Administrative Procedure Act (5 U.S.C. 553) requiring notice of proposed rulemaking, the opportunity for public participation, and a delay in effective date, are inapplicable because this regulation involves a military and foreign affairs function of the United States (Sec. 5 U.S.C. 553 (a)(1)). Further, no other law requires that a notice of proposed rulemaking and an opportunity for public comment be given for this final rule. Because a notice of proposed rulemaking and an opportunity for public comment are not required to be given for this rule under 5 U.S.C. 553 or by any other law, the analytical requirements of the Regulatory Flexibility Act (5 U.S.C. 601 et seq.) are not applicable. Therefore, this regulation is issued in final form. Although there is no public comment period, public comments on this regulation are welcome on a continuing basis. Comments should be submitted to Sheila Quarterman, Regulatory Policy Division, Bureau of Industry and Security, Department of Commerce, P.O. Box 273, Washington, DC 20044.

List of Subjects

15 CFR Part 732 and 740

Administrative practice and procedure, Exports, Foreign trade, Reporting and recordkeeping requirements.

15 CFR Part 738

Exports, Foreign trade.

15 CFR Part 746

Embargoes, Exports, Foreign trade, Reporting and recordkeeping requirements.

PART 732—[AMENDED]

1. The authority citation for Part 732 continues to read as follows:

Authority: 50 U.S.C. app. 2401 et seq.; 50 U.S.C. 1701 et seq.; E.O. 13026, 61 FR 58767, 3 CFR, 1996 Comp., p. 228; E.O. 13222, 66 FR 44025, 3 CFR, 2001 Comp., p. 783; Notice of August 7, 2003, 68 FR 47833, August 11, 2003.

§ 732.3 [Amended]

2. Section 732.3 is amended by revising the phrase “For Angola and Rwanda” in paragraph (d)(4) to read “For Rwanda”.

PART 738—[AMENDED]

3. The authority citation for Part 738 continues to read as follows:

Authority: 50 U.S.C. app. 2401 et seq.; 50 U.S.C. 1701 et seq.; 10 U.S.C. 7420; 10 U.S.C. 7430(e); 18 U.S.C. 2510 et seq.; 22 U.S.C. 287c; 22 U.S.C. 3201 et seq.; 22 U.S.C. 6004; 30 U.S.C. 185(s), 185(u); 42 U.S.C. 2139a; 42 U.S.C. 6212; 43 U.S.C. 1354; 46 U.S.C. app. 466c; 50 U.S.C. app. 5; Sec. 901-911, Pub. L. 106-387; Sec. 221, Pub. L. 107-56; E.O. 13026, 61 FR 58767, 3 CFR, 1996 Comp., p. 228; E.O. 13222, 66 FR 44025, 3 CFR, 2001 Comp., p. 783; Notice of August 7, 2003, 68 FR 47833, August 11, 2003.

Supplement No. 1 to Part 738—[Amended]

4. Supplement No. 1 to Part 738 is amended by removing the footnote notation “1” from the entry for “Angola”.

PART 740—[AMENDED]

5. The authority citation for Part 740 continues to read as follows:

Authority: 50 U.S.C. app. 2401 et seq.; 50 U.S.C. 1701 et seq.; Sec. 901-911, Pub. L. 106-387; E.O. 13026, 61 FR 58767, 3 CFR, 1996 Comp., p. 228; E.O. 13222, 66 FR 44025, 3 CFR, 2001 Comp., p. 783; Notice of August 7, 2003, 68 FR 47833, August 11, 2003.

6. Supplement No. 1 to Part 740 is amended:

a. By removing Angola from Country Group D; and

b. By revising the footnote section for Country Group E to read as follows:

Supplement No. 1 to Part 740

* * * * *

Country Group E

* * * * *

¹In addition to the controls maintained by the Bureau of Industry and Security pursuant to the EAR, note that the Department of the Treasury administers:

(a) A comprehensive embargo against Cuba, Iran, Iraq, Libya, and Sudan; and

(b) An embargo against certain persons, e.g., Specially Designated Terrorists (SDT), Foreign Terrorist Organizations (FTO), Specially Designated Global Terrorists (SDGT), and Specially Designated Narcotics Traffickers (SDNT). Please see part 744 of the EAR for controls maintained by the Bureau of Industry and Security on these and other persons.

PART 746—[AMENDED]

7. The authority citation for Part 746 continues to read as follows:

Authority: 50 U.S.C. app. 2401 et seq.; 50 U.S.C. 1701 et seq.; 22 U.S.C. 287c; 22 U.S.C. 6004; Sec. 901-911, Pub. L. 106-387; Sec. 221, Pub. L. 107-56; E.O. 12854, 58 FR 36587, 3 CFR 1993 Comp., p. 614; E.O. 12918, 59 FR 28205, 3 CFR, 1994 Comp., p. 899; E.O. 13222, 3 CFR, 2001 Comp., p. 783; Notice of August 7, 2003, 68 FR 47833, August 11, 2003.

8. Part 746 is amended:

a. By removing paragraph (d) from § 746.1; and

b. By removing and reserving Supplement No. 1 to Part 746.

Dated: January 9, 2004.
Peter Lichtenbaum,
Assistant Secretary for Export Administration.

[FR Doc. 04-1280 Filed 1-21-04; 8:45 am]

BILLING CODE 3510-33-P